DEPARTMENT OF THE INTERIOR

Bureau of Reclamation

Colorado River Interim Surplus Criteria; Correction

AGENCY: Bureau of Reclamation, Interior.

ACTION: Notice of correction to published Federal Register notice of availability.

SUMMARY: The Bureau of Reclamation is correcting information published in the Federal Register issue date of Tuesday, August 8, 2000 (Vol. 65, No. 153).

FOR FURTHER INFORMATION CONTACT: For additional information, contact Ms. Jayne Harkins at (702) 293-8785.

SUPPLEMENTARY INFORMATION: On page 48534, in Table 1., “Cooperative Water Conservation/Transfer Projects”, under the column labeled “Cooperative water conservation/transfer projects”, the footnote for “All American Canal Lining-MWD/SLR” should be “4” instead of “3.” In the “Estimated start date” column of the same table, the footnote for year “2006” should be “5” instead of “4.”

On page 48536, in the far right column, subsection “IV.B.3.b.” should read “Allocate and distribute the Quantified Surplus 50% to California, 46% to Arizona and 4% to Nevada subject to c. though f. that follow.” instead of “* * * subject to c. though g. that follow.”

Dated: September 15, 2000.
Robert W. Johnson,
Regional Director.

[FR Doc. 00-24424 Filed 9-21-00; 8:45 am]

BILLING CODE 4310-MN-P